DEPARTMENT OF LABOR

Mine Safety and Health Administration

Proposed Information Collection Request Submitted for Public Comment and Recommendations; Examinations and Tests of Electrical Equipment

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). The program helps to ensure that requested data can be provided in the desired format, reporting burden (time and financial resources) is minimized, collection instruments are clearly understood, and the impact of collection requirements on respondents can be properly assessed.

ADDRESSES: Send comments to David L. Meyer, Director, Office of Administration and Management, 4015 Wilson Boulevard, Room 615, Arlington, VA 22203-1984. Commenters are encouraged to send their comments on a computer disk, or via Internet E-mail to Meyer-David@msha.gov, along with an original printed copy. Mr. Meyer can be reached at (703) 235-1383 (voice), or (703) 235-1563 (facsimile).

FOR FURTHER INFORMATION CONTACT: Charlene N. Barnard, Regulatory Specialist, Records Management Division, U.S. Department of Labor, Mine Safety and Health Administration, Room 725, 4015 Wilson Boulevard, Arlington, VA 22203-1984. Ms. Barnard can be reached at barnard-charlene@msha.gov (Internet E-mail), (703) 235-1470 (voice), or (703) 235-1563 (facsimile).

SUPPLEMENTARY INFORMATION:

I. Background

Inadequate maintenance of electric equipment is a major cause of serious electrical accidents in the coal mining industry. Improperly maintained electric equipment has also been responsible for many disastrous mine fires and explosions. The most recent example is the mine fire that occurred at the Wilberg Mine, resulting in the deaths of 27 miners. It is imperative that mine operators adopt and follow an effective maintenance program to ensure that electric equipment is maintained in a safe operating condition if electrocutions, mine fires, and mine explosions are to be prevented.

II. Desired Focus of Comments

Currently, the Mine Safety and Health Administration (MSHA) is soliciting comments concerning the proposed extension of the information collection related to the Examinations and Tests of Electrical Equipment. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act submission (http://www.msha.gov/regspwork.htm)”, or by contacting the employee listed above in the FOR FURTHER INFORMATION CONTACT section of this notice for a hard copy.

III. Current Actions

The subject regulations require the mine operator to establish an electrical maintenance program by specifying minimum requirements for the examination, testing, and maintenance of electric equipment. The regulations also contain recordkeeping requirements which may in some instances help operators in implementing an effective maintenance program. The subject records of tests and examinations are examined by coal miners, coal mine officials, and MSHA inspectors. MSHA inspectors examine the records to determine if the required tests and examinations have been conducted and to identify units of electric equipment that may be creating excessive safety problems, and to evaluate the effectiveness of the coal mine operator's electrical maintenance programs. By comparing the records with the actual condition of electric equipment, MSHA inspectors may in some cases be able to identify weaknesses in the coal mine operator's electrical maintenance programs and require that the weaknesses be corrected.

Type of Review: Extension.

Agency: Mine Safety and Health Administration.

Title: Examinations and Tests of Electrical Equipment.

OMB Number: 1219-0067.

Recordkeeping: 1 year.

Affected Public: Business or other for-profit.

City/reference | Total respondents | Frequency | Total responses | Average time per response | Burden hours
75.512 | 16,742 | Weekly | 870,584 | 42 minutes | 593,762
75.703-3(d)(11) | Included with 75.512 calculation |  |  |  |
77.502 | 25,485 | Monthly | 305,820 | 1 Hr | 228,091
75.800-4 and 77.800-2 | 3,115 | Monthly | 37,380 | 45 min | 28,035
77.900-2 | 1,699 | Monthly | 20,388 | 45 minutes | 15,291
75.900-4 | 5,970 | Monthly | 71,640 | 1.5 hours | 107,460
75.1001-1(c) | 1,000 | 6 Months | 2,000 | 1.5 hours | 3,000
75.351 | 647 | Monthly | 7,764 | 1.5 hours | 9,705
Totals | 54,658 |  | 1,315,576 |  | 994,704

Total Burden Cost (capital/startup): $0.

Total Burden Cost (operating/maintaining): $0.

Comments submitted in response to this notice will be summarized and/or included in the request for Office of Management and Budget approval of the information collection request; they will also become a matter of public record.

Dated: February 7, 2002.
David L. Meyer,
Director, Office of Administration and Management.

[FR Doc. 02-3520 Filed 2-12-02; 8:45 am]

BILLING CODE 4510-13-M